DEPARTMENT OF TRANSPORTATION

Federal Aviation Administration

[Docket No. FAA-2001-9854]

Notice of Alternative Policy Options for Managing Capacity at LaGuardia Airport and Proposed Extension of the Lottery Allocation; Suspension of the Closing Date of the Comment Period

AGENCY: Federal Aviation Administration (FAA), DOT.

ACTION: Notice to suspend until further notice the closing date of the comment period on alternative policy options for managing capacity and mitigating congestion and delay at LaGuardia Airport (LGA).

SUMMARY: In a notice published on June 12, 2001, the FAA requested comments on the feasibility and effectiveness of five different demand management options that could be used to replace the current temporary administrative limits on the number of aircraft operations at LGA. The comment period is scheduled to close on October 12, 2001. This notice suspends the closing date of the comment period until further notice.

FOR FURTHER INFORMATION CONTACT: Jeffrey Wharff, Senior Economist, Office of Aviation Policy and Plans, 800 Independence Avenue, SW., Washington, DC 20591; telephone number 202-267-7035.

SUPPLEMENTARY INFORMATION:

Background

On June 12, 2001, the FAA issued a “Notice of Alternative Policy Options for Managing Capacity at LaGuardia Airport and Proposed Extension of the Lottery Allocation” (65 FR 31731, June 12, 2001). In that notice, commenters were asked to submit detailed analyses of two different market-based approaches and three types of administrative options to allocate capacity at LGA. Commenters were also encouraged to submit comments on alternative approaches to allocate capacity at LGA.

Suspension of the Closing Date of the Comment Period

The terrorist attacks of September 11, 2001 on the World Trade Center and the Pentagon caused the FAA to temporarily cease all non-military flights in the United States and required airports and airlines to adopt certain security measures prior to the resumption of commercial service. In response to the new security requirements and lowered passenger demand, several, airlines have reduced the number of aircraft operations below previously planned levels throughout the national airport system, including LGA. These factors, at least in the short-run, have contributed to a significant decrease in airport congestion at LGA. In addition, the FAA has received a joint request (dated September 28, 2001) by the Air Transport Association, Regional Airline Association, National Air Carrier Association, American Association of Airport Executives, and the Cargo Airline Association for the FAA to suspend indefinitely its consideration of alternative demand management policy options or at a minimum extend the comment period by 180 days. In a letter dated October 8, 2001, the Air Carrier Association of America disagrees that all issues addressed in the June 12, 2001, Federal Register notice be delayed for any time period.

In these circumstances, the FAA has determined that it would be reasonable and in the public interest to suspend until further notice the closing date of the comment period for the notice 65 FR 31731, June 12, 2001. At the appropriate time, FAA will publish an advance notice giving the new closing date and an indication whether the scope or nature of the demand management options under consideration have changed.

Issued on October 9, 2001 in Washington, DC.
John M. Rodgers,
Director of the Office of Aviation Policy and Plans.

[FR Doc. 01-25725 Filed 10-9-01; 4:16 pm]

BILLING CODE 4910-13-M